DEPARTMENT OF AGRICULTURE

Submission for OMB Review; Comment Request

June 11, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Summer Food Service Program (SFSP) Characteristics Study.

OMB Control Number: 0584-NEW.

Summary of Collection: School-age children are more susceptible to food insecurity during the summer when they do not have access to meals provided at school. The Summer Food Service Program (SFSP) was designed to ensure that children who benefits from the National School Lunch Program (NSLP) and the School Breakfast Program (SBP) do not experience a nutrition gap during the summer. The SFSP supports children's nutrition through reimbursements to participating institutions for meals meeting USDA Dietary Guidelines for Americans, 2015. The legal authority to collect this information is under the Healthy, Hunger-Free Kids Act of 2010 (Pub. L. 111-296, Sec. 305).

Need and Use of the Information: FNS will collect information using web-based surveys and some will be completed over the phone. The collected information will be used to identify barriers and facilitators to program participation by sponsors, sites, and eligible children. It will be used to determine future changes in SFSP policy to improve program participation, operations, and outcomes needed to address circumstances that may have changed since the last evaluation of the program in 2010.

Description of Respondents: Individuals or households; State, Local or Tribal Government.

Number of Respondents: 1,104.

Frequency of Responses: Reporting: Annually.

Total Burden Hours: 2,636.

Food and Nutrition Service

Title: Supplemental Nutrition Assistance Program (SNAP) Employment and Training (E & T) Program Activity Report.

OMB Control Number: 0584-0339.

Summary of Collection: Section 6(d) of the Food and Nutrition Act of 2008 and 7 CFR 273.7 require each SNAP household member who is not exempt shall be registered for employment by the State agency at the time of application and once every twelve months thereafter, as a condition of eligibility. This requirement pertains to non-exempt SNAP household member age 16 to 60. Each State agency must screen each work registrant to determine whether to refer the individual to its E&T Program. States' E&T Programs are federally funded through an annual E&T grant. Both the Food and Nutrition Act and regulations require States to file quarterly reports about their E&T Programs so that the Food and Nutrition Service (FNS) can monitor their performance.

Need and Use of the Information: FNS will collect quarterly reports about their E&T programs so that the Department can monitor State performance to ensure that the program is being efficiently and economically operated. Without the information FNS would be unable to make adjustments or allocate exemptions in accordance with the statute.

Description of Respondents: State, Local, or Tribal Government.

Number of Respondents: 53.

Frequency of Responses: Recordkeeping; Reporting: Quarterly; Annually.

Total Burden Hours: 21,889.

Ruth Brown,
Departmental Information Collection Clearance Officer.

[FR Doc. 2014-14120 Filed 6-16-14; 8:45 am]

BILLING CODE 3410-30-P